DEPARTMENT OF THE INTERIOR

Bureau of Land Management

[WY-05-010-1430-EU]

Notice of Intent To Prepare an Environmental Impact Statement, Westside Irrigation District Land Conveyance Project, Big Horn and Washakie Counties, WY

AGENCY: Bureau of Land Management, Interior.

ACTION: Notice of Intent (NOI) to prepare an Environmental Impact Statement (EIS) and to conduct public scoping for the Westside Irrigation District Land Conveyance Project, Big Horn and Washakie Counties, Wyoming.

SUMMARY: Public Law 106-485 (November 9, 2000; 114 Stat. 2199) directs the Secretary of the Interior, acting through the Bureau of Land Management (BLM), to convey all right, title, and interest (excluding mineral interest) in a parcel of public land in Big Horn County and Washakie County, Wyoming. The parcel of land to be conveyed comprises approximately 16,500 acres. Conveyance is to be made to the Westside Irrigation District at appraised value.

The sale to the District is to take place after “completion of an environmental analysis under the National Environmental Policy Act” (NEPA) by the BLM. Under the provisions of Section 102(2)(C) of the National Environmental Policy Act (NEPA), the BLM announces its intentions to prepare an EIS and to solicit public comments regarding issues and resource information.

DATES: This notice extends the scoping process initiated July 23, 2004, with a mailing of a scoping notice to Federal, State, and local government agencies; interested organizations; and news media. The BLM can best use public input if comments and resource information are submitted within 30 days of publication of this notice in the Federal Register. An updated scoping notice advising of the extended scoping period will be distributed by mail on, or about, the date of the publication of this notice.

The BLM conducted public meetings in Basin and Worland, Wyoming on August 3-4, 2004, at which members of the public were provided information on the project and the opportunity to submit comments. The BLM will announce public meetings and other opportunities to submit comments on this project at least 15 days prior to the event. Announcements will be made through local news media and the Worland Field Office's Web site: http://www.wy.blm.gov/wfo/info.htm.

ADDRESSES: Please send written comments, or questions, to BLM Worland Field Office, P.O. Box 119, Worland, Wyoming 82401. Written comments or resource information may also be hand-delivered to BLM Worland Field Office, 101 S. 23rd, Worland, Wyoming 82401. Comments, or questions, may also be sent electronically to wymail_westside@blm.gov. The scoping notice and other information regarding this project are posted on the Wyoming BLM Web site, at http://www.wy.blm.gov/nepa/wfodocs/westside. Members of the public may examine documents pertinent to this proposal by visiting the Worland Field Office during its business hours (8 a.m. to 4:30 p.m.), Monday through Friday, except holidays.

Your response is important and will be considered in the environmental analysis process. If you do respond, we will keep you informed of the availability of environmental documents that address impacts that occur from this proposal. Please note that comments and information submitted regarding this project including names, e-mail addresses, and street addresses of the respondents will be available for public review and disclosure at the above address. Individual respondents may request confidentiality. If you wish to withhold your name, email address, or street address from public review or from disclosure under the Freedom of Information Act, you must state this prominently at the beginning of your written comment. Such requests will be honored to the extent allowed by the law. All submissions from organizations or businesses, and from individuals identifying themselves as representatives or officials of organizations or businesses, will be made available for public inspection in their entirety.

FOR FURTHER INFORMATION CONTACT: Don Ogaard, Project Manager, BLM, Worland Field Office, P.O. Box 119, Worland, Wyoming 82401. Mr. Ogaard may also be reached by telephone at 307-347-5160.

SUPPLEMENTARY INFORMATION: The Westside Irrigation District Land Conveyance Project area is located in southern Big Horn County and northern Washakie County. The southern end of the project area is approximately 5 miles northwest of Worland, Wyoming. The area comprises 16,500 acres, in Townships 92 W., 92½ W., and 93 W.; Ranges 48 N. and 49 N.

Following the conveyance of public lands to the District, the BLM anticipates that the land would be re-sold to private individuals for agricultural purposes in parcels no less than 160 acres per individual. Individuals qualifying for purchase of the lands from the District would be selected through a lottery. Successful individuals and the lands they acquire would become members of the District. Lands would be selected that are irrigable and that avoid impacts to wildlife, recreation, sensitive environmental areas, and other land uses. The District would make sufficient modifications in their irrigation infrastructure to allow for irrigation of the selected parcels.

The law authorizing transfer of the land specifies that acreage may be added to, or subtracted from, the original 16,500 acres to satisfy any mitigation requirements resulting from the NEPA analysis. The law further provides that proceeds from the sale are to be used “for the acquisition of land and interests in land in the Worland District of the Bureau of Land Management that will benefit public recreation, public access, fish and wildlife habitat, or cultural resources.”

The Wyoming Water Development Commission (WWDC) will be a co-lead agency in the preparation of this EIS. The WWDC will use the document in support of any future funding decisions should the Westside Irrigation District file an application with the Commission for water supply development assistance. Cooperating agencies identified to date include the U.S. Army Corps of Engineers, and Big Horn and Washakie Counties, through their respective boards of county commissioners.

BLM personnel, other agencies, and individuals have preliminarily identified the following issues that will be addressed in the EIS: Federally-listed Threatened, Endangered, Candidate and Sensitive Species and their habitats; surface water resources; prehistoric and historic cultural resources; social and economic effects to the local communities; wildlife habitat and fisheries; nesting raptors; wetlands and riparian areas; and recreation activities and opportunities, such as hunting and fishing.

Dated: November 9, 2004.
Robert A. Bennett,
State Director.

[FR Doc. 05-3297 Filed 2-18-05; 8:45 am]

BILLING CODE 4310-22-P